ENVIRONMENTAL PROTECTION AGENCY

[FRL-7204-3]

Gurley Pesticide Burial Superfund Site/Selma, NC, Notice of Proposed Settlement

AGENCY: Environmental Protection Agency.

ACTION: Notice of proposed settlement.

SUMMARY: Under Section 122 of the Comprehensive Environmental Response, Compensation, and Liability Act (CERCLA), NSEW Corporation (Settling Respondent) entered into a Prospective Purchaser Agreement (PPA) with the Environmental Protection Agency (EPA), whereby the Respondent agrees to reimburse EPA a portion of its response costs incurred at the Gurley Pesticide Burial Superfund Site (Site) located in Selma, Johnston County, North Carolina. EPA will consider public comments on the proposed settlement for thirty days. EPA may withdraw from or modify the proposed settlement should such comments disclose facts or considerations which indicate the proposed settlement is inappropriate, improper, or inadequate. Copies of the proposed settlement are available from: Ms. Paula V. Batchelor, U.S. Environmental Protection Agency, Region IV, CERCLA Program Services Branch, Waste Management Division, 61 Forsyth Street, SW., Atlanta, Georgia 30303, (404) 562-8887.

Written comment may be submitted to Mr. Greg Armstrong at the above address within 30 days of the date of publication.

Dated: April 19, 2002.
James T. Miller,
Acting Chief, CERCLA Program Services Branch, Waste Management Division.

[FR Doc. 02-10733 Filed 4-30-02; 8:45 am]

BILLING CODE 6560-50-P